DEPARTMENT OF THE INTERIOR

Minerals Management Service

Outer Continental Shelf, Western Gulf of Mexico, Oil and Gas Lease Sale 180, and Central Gulf of Mexico, Oil and Gas Lease Sale 178, Part 2

AGENCY: Minerals Management Service, Interior.

ACTION: Availability of the proposed notices of sale.

SUMMARY: This Notice announces the availability of the Gulf of Mexico Outer Continental Shelf (OCS) Proposed Notices of Sale for Oil and Gas Lease Sale 180 in the Western Gulf of Mexico, and for Oil and Gas Lease Sale 178, Part 2, in the Central Gulf of Mexico. This Notice of Availability is published pursuant to 30 CFR 256.29(c), as a matter of information to the public.

ADDRESSES: The proposed Notices of Sale for Sale 180 and Sale 178, Part 2, and “Proposed Sale Notice Packages” containing information essential to potential bidders may be obtained from the Public Information Unit, Gulf of Mexico Region, Minerals Management Service, 1201 Elmwood Park Boulevard, New Orleans, Louisiana 70123-2394. Telephone: (504) 736-2519.

SUPPLEMENTARY INFORMATION: With regard to oil and gas leasing on the OCS, the Secretary of the Interior, pursuant to section 19 of the OCS Lands Act, provides the affected States the opportunity to review the proposed Notices. The proposed Notices set forth the proposed terms and conditions of the sales, including minimum bids, royalty rates, and rentals. The final Notices of Sale will be published in the Federal Register at least 30 days prior to the date of bid opening. Bid opening is currently scheduled for August 22, 2001.

Dated: March 26, 2001.
Thomas R. Kitsos,
Acting Director, Minerals Management Service.

[FR Doc. 01-8460 Filed 4-5-01; 8:45 am]

BILLING CODE 4310-MR-U